DEPARTMENT OF AGRICULTURE

Animal and Plant Health Inspection Service

[Docket No. APHIS-2012-0050]

Notice of Request for Approval of an Information Collection; Asian Longhorned Beetle Consumer Research Survey

AGENCY: Animal and Plant Health Inspection Service, USDA.

ACTION: Approval of an information collection; comment request.

SUMMARY: In accordance with the Paperwork Reduction Act of 1995, this notice announces the Animal and Plant Health Inspection Service's (APHIS) intention to request an approval of an information collection associated with the APHIS Asian longhorned beetle eradication program.

DATES: We will consider all comments that we receive on or before September 10, 2012.

ADDRESSES: You may submit comments by either of the following methods:

• Federal eRulemaking Portal: Go to http://www.regulations.gov/#!documentDetail;D=APHIS-2012-0050-0001.

• Postal Mail/Commercial Delivery: Send your comment to Docket No. APHIS-2012-0050, Regulatory Analysis and Development, PPD, APHIS, Station 3A-03.8, 4700 River Road, Unit 118, Riverdale, MD 20737-1238.

Supporting documents and any comments we receive on this docket may be viewed at http://www.regulations.gov/#!docketDetail;D=APHIS-2012-0050 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the Asian longhorned beetle consumer research survey, contact Ms. Heather Curlett, Outreach and Risk Communications Coordinator, PPQ, APHIS, 4700 River Road Unit 130, Riverdale, MD 20737; (301) 851-2294. For copies of more detailed information on the information collection, contact Mrs. Celeste Sickles, APHIS' Information Collection Coordinator, at (301) 851-2908.

SUPPLEMENTARY INFORMATION: Title: Asian Longhorned Beetle Consumer Research Survey.

OMB Number: 0579-XXXX.

Type of Request: Approval of an information collection.

Abstract: The APHIS Asian longhorned beetle (ALB) Cooperative Eradication Program is responsible for protecting the United States' hardwood forests and parklands, as well as urban and suburban trees, from ALB infestation. The program works towards halting the spread of this devastating pest and preventing it from becoming established. Through survey, control, regulatory compliance measures, and public education, the ALB program protects trees on private property, in parks, and along streets. The program also protects tree-dependent industries such as timber, maple syrup, nurseries, and tourism.

One of the most common ways the ALB can spread is by human transport. Of particular concern is firewood cut from personal or neighborhood trees and moved to areas that are not currently infested with ALB or other invasive insects or plant diseases. The vigilance of residents in and around ALB regulated areas looking for the beetle and signs of infestation and reporting any suspicions, along with their adherence to rules regarding the movement of firewood, remain crucial. It is also important that citizens allow program officials access to private property for survey and treatment activities. Citizens in areas not currently ALB infested should also be cognizant of the beetle and why firewood movement should be curtailed.

The ALB Cooperative Eradication Program has been working to eradicate the ALB from the United States since 1996. Although steady progress has been made, areas remain vulnerable to ALB infestation as long as the beetle exists in the United States. Parts of Massachusetts, New Jersey, and New York are quarantined for ALB and the insect was recently detected in Ohio. People who live or work in or around ALB-affected and at-risk areas are critical to the United States Department of Agriculture's mission to stop the ALB. Alert community members have been the first to report every ALB infestation detected in the United States thus far. To stop the spread of this pest, the ALB Cooperative Eradication Program must retain the public's attention and would like to reach more people in different ways.

This information collection activity will help APHIS determine if current public communication initiatives that support the eradication program are effectively communicating necessary information about the pest, the eradication program, and the steps the public can take to help prevent the spread of ALB. APHIS will use this information to revise ALB-specific public communication efforts to better align with public information needs.

We are asking the Office of Management and Budget to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.25 hours per response.

Respondents: Consumers 18 years of age or older living in target counties in Massachusetts, New Jersey, New York, and Ohio.

Estimated annual number of respondents: 1,000.

Estimated annual number of responses per respondent: 1.

Estimated annual number of responses: 1,000.

Estimated total annual burden on respondents: 250 hours. (Due to averaging, the total annual burden hours may not equal the product of the annual number of responses multiplied by the reporting burden per response.)

All responses to this notice will be summarized and included in the request for OMB approval. All comments will also become a matter of public record.

Done in Washington, DC, this 29th day of June 2012.
Kevin Shea,
Acting Administrator, Animal and Plant Health Inspection Service.

[FR Doc. 2012-16798 Filed 7-9-12; 8:45 am]

BILLING CODE 3410-34-P